DEPARTMENT OF HEALTH AND HUMAN SERVICES

Centers for Disease Control and Prevention

[60Day-13-13AFV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology. Written comments should be received within 60 days of this notice.

Proposed Project

The National Ambulatory Medical Care Survey (NAMCS): National Electronic Health Record Survey (NEHRS)—NEW—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “utilization of health care” in the United States. The purpose of the National Electronic Health Record Survey (NEHRS) is to collect data annually from office-based physicians to measure progress in adopting electronic health records (EHRs) into their practices. Questions about the use of EHRs have been asked in the National Ambulatory Medical Care Survey (NAMCS) (OMB No. 0920-0234) since 2001. NAMCS NEHRS has been conducted as a mail survey supplement under NAMCS since 2008. NCHS is now seeking OMB approval to make NAMCS NEHRS an independent survey. The content will be similar to what was previously collected. A three-year approval is requested.

NAMCS NEHRS target universe consists of all non-Federal office-based physicians (excluding those in the specialties of anesthesiology, radiology, and pathology) who are engaged in direct patient care.

NAMCS NEHRS is the principal source of data on national and state-level EHR adoption in the United States. In 2008 and 2009, the sample size was 2,000 physicians annually. Starting in 2010, the annual sample size was increased five-fold, from 2,000 physicians to 10,302 physicians. The increased sample size allows for more reliable national estimates as well as state-level estimates on EHR adoption.

NAMCS NEHRS, a voluntary survey, collects information on characteristics of physicians and their practices; the functionalities that are available in those practices' EHR systems; and information on physicians' intent to apply for meaningful use incentive payments. Physician Identification Number is collected to link NAMCS NEHRS data with available administrative data. These data, together with data from previous years, may be used to monitor the adoption of EHR as well as assessing what factors are associated with EHR adoption.

In addition to the regular NEHRS questionnaire, which will be fielded annually, in 2014 half the sample will receive the expanded NAMCS NEHRS which has additional questions related to effects that EHRs have on clinical workflow and efficiencies, as well as questions on access, quality, and costs associated with the delivery of health care. All 2014 NEHRS respondents (to either questionnaire) may receive the expanded survey in 2015 and 2016, as a follow-up to evaluate the effect of EHR adoption on the delivery of health care over time.

The table below provides the average annual burden for this survey. The first line represents an average of the half sample for 2014 and full samples for 2015 and 2016 that receive the regular NEHRS questionnaire. The second line represents the 2014 half sample that will receive the expanded questionnaire. The third line represents the full 2014 sample that will be followed up with the expanded questionnaire in 2015 and 2016. All of these are averaged over three years.

Users of NAMCS NEHRS data include, but are not limited to, Congressional offices, Federal agencies, state and local governments, schools of public health, colleges and universities, private industry, nonprofit foundations, professional associations, clinicians, researchers, administrators, and health planners. There is no cost to respondents other than their time.

Estimated Annualized Burden Table
Type of respondent | Form name | Sample size | Number of responses per respondent | Hours per response | Total burden (hours)
Office-based physicians | Regular NEHRS | 8,585 | 1 | 20/60 | 2,862
Office-based physicians | Expanded NEHRS | 1,717 | 1 | 30/60 | 859
Office-based physicians | NEHRS expansion (Follow-up) | 6,868 | 1 | 30/60 | 3,434
Total |  |  |  |  | 7,155

LeRoy A. Richardson,
Chief, Information Collection Review Office, Office of Scientific Integrity, Office of the Associate Director for Science, Office of the Director, Center for Disease Control and Prevention.

[FR Doc. 2013-20644 Filed 8-23-13; 8:45 am]

BILLING CODE 4163-18-P